ENVIRONMENTAL PROTECTION AGENCY

40 CFR Part 52

[MD118-3073a; FRL-7014-1]

Approval and Promulgation of Air Quality Implementation Plans; Maryland; Control of VOC Emissions From Organic Chemical Production

AGENCY: Environmental Protection Agency (EPA).

ACTION: Direct final rule.

SUMMARY: EPA is taking direct final action to approve revisions to the Maryland State Implementation Plan (SIP). These revisions establish reasonable available control technology (RACT) to limit volatile organic compound (VOC) emissions from organic chemical production. EPA is approving these revisions in accordance with the requirements of the Clean Air Act (CAA).

DATES: This rule is effective on September 18, 2001 without further notice, unless EPA receives adverse written comment by August 20, 2001. If EPA receives such comments, it will publish a timely withdrawal of the direct final rule in the Federal Register and inform the public that the rule will not take effect.

ADDRESSES: Written comments should be mailed to David L. Arnold, Chief, Air Quality Planning and Information Services Branch, Mail Code 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and Maryland Department of the Environment, 2500 Broening Highway, Baltimore, Maryland, 21224.

FOR FURTHER INFORMATION CONTACT: Rose Quinto, (215) 814-2182, or by e-mail at quinto.rose@epa.gov or Carol Febbo, (215) 814-2076, or by e-mail at febbo.carol@epa.gov or at the EPA Region III address above.

SUPPLEMENTARY INFORMATION:

I. Background

On February 5, 2001, the State of Maryland submitted formal revisions to its SIP. These revisions, submitted by the Maryland Department of the Environment (MDE), consist of amendments to COMAR 26.11.19 Volatile Organic Compounds from Specific Processes to add a new regulation, COMAR 26.11.19.30 Control of Volatile Organic Compounds from Organic Chemical Production.

II. Summary of the SIP Revision

The Code of Maryland Regulations 26.11.19.30 Control of Volatile Organic Compounds from Organic Chemical Production establishes RACT to control VOCs from organic chemical production sources located throughout the State of Maryland. The subsections of the regulation are described below.

Subsections A. and B. Definitions and Terms Defined

These sections establish definitions for the terms “back-up control device,” “chemical intermediate,” “control device,” “organic chemical production installation,” and “product condenser.”

Subsection C. Applicability

In general, the regulations apply to a person who owns or operates an organic chemical production installation at a premise that, on any day, has actual uncontrolled VOC emissions of 20 pounds or more per day. However, there are organic chemical production facilities to which COMAR 26.11.19.30 does not apply. It does not apply to an organic chemical production installation that is subject to provisions of the Federal Hazardous Organic NESHAPs (National Emission Standards for Hazardous Air Pollutants). See 40 CFR part 63, subparts F, G, H. Nor does it apply to any process or installation that is otherwise subject to regulations under COMAR 26.11.19 Volatile Organic Compounds from Specific Processes except for COMAR 26.11.19.01, 26.11.19 .02, and 26.11.19.16.

Subsection D. General Requirements

(1) A person who owns or operates an installation at a premise that has total uncontrolled VOC emissions of 100 pounds or more per day shall duct each process vent and exhaust line from any installation with actual emissions of 20 pounds or more per day, into a control device that has a VOC destruction or removal efficiency of at least 90 percent, overall.

(2) A person who owns or operates an installation at a premise that has total uncontrolled VOC emissions of 20 pounds or more per day but less than 100 pounds per day shall prepare a manual that identifies good operating practices and procedures designed to minimize VOC emissions from the premises.

(3) The good operating practices and procedures required in subsection D(2) shall be implemented by March 30, 2001, and the manual be made available to MDE upon request.

(4) A person who complies with subsection D(1) and later cannot achieve compliance because of an unavoidable outage or malfunction of the primary control device shall either:

(a) Discontinue operation until the primary control device is returned to proper service; or

(b) Use a back-up control device that is approved by MDE.

(5) The back-up control device under subsection D(4)(b) may not be used more than 10 percent of the annual operating time of the affected installation during any calendar year unless a longer period is approved by MDE.

Subsection E. Demonstration of Compliance

(1) Compliance shall be demonstrated using the applicable VOC test methods specified in COMAR 26.11.01.04C or other test method approved by MDE.

(2) A product condenser that is part of an organic chemical installation is not considered a control device.

EPA concurs with the MDE that COMAR 26.11.19.30 Control of Volatile Organic Compounds from Organic Chemical Production establishes RACT to control VOCs from organic chemical production sources located throughout the State of Maryland, and will result in significant enforceable VOC emission reductions. EPA has determined that COMAR 26.11.19.30 is approvable as a SIP revision.

III. Final Action

EPA is approving the SIP revisions submitted by MDE on February 5, 2001 to establish RACT to control VOC emissions from organic chemical production. EPA is publishing this rule without prior proposal because the Agency views this as a noncontroversial amendment and anticipates no adverse comment. However, in the “Proposed Rules” section of today's Federal Register, EPA is publishing a separate document that will serve as the proposal to approve the SIP revision if adverse comments are filed. This rule will be effective on September 18, 2001 without further notice unless EPA receives adverse comment by August 20, 2001. If EPA receives adverse comment, EPA will publish a timely withdrawal in the Federal Register informing the public that the rule will not take effect. EPA will address all public comments in a subsequent final rule based on the proposed rule. EPA will not institute a second comment period on this action. Any parties interested in commenting must do so at this time.

IV. Administrative Requirements

A. General Requirements

Under Executive Order 12866 (58 FR 51735, October 4, 1993), this action is not a “significant regulatory action” and therefore is not subject to review by the Office of Management and Budget. For this reason, this action is not subject to Executive Order 13211, “Actions Concerning Regulations That Significantly Affect Energy Supply, Distribution, or Use” (see 66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the CAA. This rule also is not subject to Executive Order 13045 (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action, pertaining to revisions to the Maryland SIP establishing requirements for the control of VOC emissions from organic chemical production, must be filed in the United States Court of Appeals for the appropriate circuit by September 18, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and record keeping requirements.

Dated: July 9, 2001.
William C. Early,
Acting Regional Administrator, Region III.

40 CFR part 52 is amended as follows:

PART 52—[AMENDED]

1. The authority citation for part 52 continues to read as follows:

Authority: 42 U.S.C. 7401 et seq.

Subpart V—Maryland

2. Section 52.1070 is amended by adding paragraph (c)(162) to read as follows:

§ 52.1070 Identification of plan.

* * * * *

(c) * * *

(162) Revisions to the Maryland State Implementation Plan submitted on February 5, 2001 by the Maryland Department of the Environment:

(i) Incorporation by reference.

(A) A letter dated February 5, 2001 from the Maryland Department of the Environment transmitting revisions to the Maryland State Implementation Plan, consisting of the addition of COMAR 26.11.19.30 Control of Volatile Organic Compounds from Organic Chemical Production.

(B) Addition of new COMAR 26.11.19.30 Control of Volatile Organic Compounds from Organic Chemical Production, adopted by the Secretary of the Environment on December 6, 2000 and effective on January 8, 2001, including the following:

(1) addition of new COMAR 26.11.19.30 A. Definitions.

(2) addition of new COMAR 26.11.19.30 B. Terms Defined.

(3) addition of new COMAR 26.11.19.30.C. Applicability.

(4) addition of new COMAR 26.11.19.30.D. General Requirements.

(5) addition of new COMAR 26.11.19.30.E. Demonstration of Compliance.

(ii) Additional Materials—Remainder of the February 5, 2001 submittal.

[FR Doc. 01-18190 Filed 7-19-01; 8:45 am]

BILLING CODE 6560-50-P